DEPARTMENT OF ENERGY

Federal Energy Regulatory Commission

[Docket Nos. EC03-131-003; EC03-131-004]

Oklahoma Gas and Electric Company; Notice of Request for Comments

December 8, 2005.

On July 2, 2004, the Commission approved Oklahoma Gas and Electric Company's (OG&E) Offer of Settlement in this proceeding subject to certain modifications. In the Offer of Settlement, OG&E offered a number of permanent and interim mitigation measures. Among these mitigation measures was a commitment to construct a 600 MW Bridge between InterGen's Redbud Energy Project and OG&E's control area that would create an additional 600 MWs of available transmission capacity. See Oklahoma Gas and Electric and NRG McClain LLC, 105 FERC ¶61,297 (2003), order approving settlement, 108 FERC ¶61,004 (2004). On May 31, 2005, OG&E filed a letter informing the Commission that, as of May 19, 2005, all of the facilities that OG&E committed to construct under the Offer of Settlement were placed into commercial operation.

A technical conference in this proceeding was held on December 1, 2005 at the Commission's Headquarters, 888 First Street, NE., Washington, DC 20426. The technical conference participants discussed whether the upgrades completed by OG&E resulted in an additional 600 MWs of available transmission capacity, as required in the July 2004 Order. At the conclusion of the conference, the parties agreed to answer the following questions:

1. Is an additional 600 MWs of Available Transfer Capability, achieved by upgrading the transmission system, created when: (a) The McClain generating units are not running; (b) the McClain generating units are running to serve OG&E load; or (c) the McClain generating units are running under operating conditions other than those described in (a) and (b)? In other words, should the base case be McClain running with no transmission upgrades or McClain not running with no transmission upgrades. Provide complete explanatory rationale and support for how the 600 MWs of Available Transfer Capability is created.

2. Explain if there are discrepancies in Available Transfer Capability, as calculated by OG&E and as calculated by SPP, including whether the difference (if any) is the result of the use of different models (planning models vs. operational models) containing different generation dispatch pattern, different transmission system configuration, different firm reservations, and different generation and transmission outages.

3. Were there any firm reservations, posted on the SPP OASIS after the July 2004 Order and prior to Redbud's transmission request in June 2005, by Redbud or any other party that would have reduced the Available Transfer Capability from Redbud to OG&E's transmission system?

4. In addition to the previously disclosed non-firm reservation that was not removed from the SPP study in response to Redbud's June 2005 request, were there any other non-firm reservations which were not removed from the ATC studies performed by OG&E and SPP.

5. Assuming the transmission upgrades created an additional 600 MWs of Available Transfer Capability, explain what happened to the Available Transfer Capability from the time OG&E placed it into service and when SPP made it available for transmission use.

Comments in response to these questions are due on or before December 16, 2005, and reply comments are due on or before January 20, 2006. Comments must refer to Docket Nos. EC03-131-003 and EC03-131-004, and must include the commenters' name, the organization they represent, if applicable, and their address. Commenters should limit their answers to the five specific questions identified above. Commentors may include any additional pertinent information that will aid the Commission in evaluating their responses to these five questions. Commentors may not raise any new issues. The commentors should double space their comments.

Comments may be filed on paper or electronically via the eFiling link on the Commission's Web site at http://www.ferc.gov. The Commission accepts most standard word processing formats and commenters may attach additional files with supporting information in certain other file formats. Commenters filing electronically do not need to make a paper filing. Commenters that are not able to file comments electronically must send an original and 14 copies of their comments to: Federal Energy Regulatory Commission, Office of the Secretary, 888 First Street, NE., Washington, DC 20426.

All comments will be placed in the Commission's public files and may be viewed, printed, or downloaded remotely as described below. Commenters must serve copies of their comments on the other commenters.

In addition to publishing the full text of this document in the Federal Register, the Commission provides all interested persons an opportunity to view and/or print the contents of this document via the Internet through the Commission's home page http://www.ferc.gov and in the Commission's Public Reference Room during normal business hours (8:30 a.m. to 5 p.m. Eastern time) at 888 First Street, NE., Room 2-A, Washington, DC 20426.

From the Commission's home page on the Internet, this information is available in the Commission's document management system, eLibrary. The full text of this document is available on eLibrary in PDF and Microsoft Word format for viewing, printing, and/or downloading. To access this document in eLibrary, type the docket number (excluding the last three digits) in the docket number field.

User assistance is available for eLibrary and the Commission's web site during normal business hours. For assistance, please contact the Commission's Online Support at 1-866-208-3676 (toll free) or 202-502-6652 (e-mail at FERCOnlineSupport@ferc.gov) or the Public Reference Room at 202-502-8371, TTY 202-502-8659, e-mail at public.referenceroom@ferc.gov. Questions should be directed to: David Hunger, david.hunger@ferc.gov, Office of Markets Tariffs and Rates, Federal Energy Regulatory Commission, 888 First Street, NE., Washington, DC 20426. (202) 502-8148.

Magalie R. Salas,
Secretary.

[FR Doc. E5-7309 Filed 12-13-05; 8:45 am]

BILLING CODE 6717-01-P